DEPARTMENT OF TRANSPORTATION

National Highway Traffic Safety Administration

[Docket No. NHTSA-2003-14628]

Extension of Comment Period on Whether Nonconforming 1996 and 1997 Lamborghini Diablo Passenger Cars Are Eligible for Importation; Correction

AGENCY: National Highway Traffic Safety Administration (NHTSA), DOT.

ACTION: Correction to notice of extension of comment period.

SUMMARY: This document corrects a document published on April 1, 2003 (68 FR 15794), notifying the public that NHTSA is extending the comment period on a petition for a decision whether nonconforming 1996 and 1997 Lamborghini Diablo passenger cars are eligible for importation. The document incorrectly stated that the comment period is extended until May 30, 2003. The closing date for comments should have been properly stated as May 2, 2003.

Authority: 49 U.S.C. 30141(a)(1)(A) and (b)(1); 49 CFR 593.8; delegations of authority at 49 CFR 1.50 and 501.8.

Issued on: April 15, 2003.
Kenneth N. Weinstein,
Associate Administrator for Enforcement.

[FR Doc. 03-9645 Filed 4-17-03; 8:45 am]

BILLING CODE 4910-59-P